POSTAL SERVICE

39 CFR Part 20

Cigarettes and Smokeless Tobacco—Prohibited in All Outbound and Inbound International Mail

AGENCY: Postal Service™.

ACTION: Final rule.

SUMMARY: The Postal Service is revising the Mailing Standards of the United States Postal Service, International Mail Manual (IMM®) 136.4, pertaining to the mailing of tobacco cigarettes and smokeless tobacco. These provisions implement specific requirements of the Prevent All Cigarette Trafficking (PACT) Act, which restricts the mailability of cigarettes and smokeless tobacco.

DATES: Effective Date: August 2, 2010.

FOR FURTHER INFORMATION CONTACT: Rick Klutts at 813-877-0372.

SUPPLEMENTARY INFORMATION: In the Postal Service's final rule titled “Treatment of Cigarettes and Smokeless Tobacco as Nonmailable Matter” published in the Federal Register on May 27, 2010 (75 FR 29662-29671), the Postal Service implemented prohibitions and exceptions for the mailing of cigarettes, including roll-your-own tobacco, and smokeless tobacco under the Prevent All Cigarette Trafficking (PACT) Act (Pub. L. 111-154). That final rule introduced new provisions in Mailing Standards of the United States Postal Service, Domestic Mail Manual (DMM®) section 601.11 that, among other things, provide that the exceptions for mailing cigarettes and smokeless tobacco under the PACT Act do not apply to inbound and outbound international mail. As explained in the corresponding proposed rule published in the Federal Register on May 5, 2010 (75 FR 24534, 24535), the complex verification requirements for the PACT Act's exceptions, combined with the strict consequences of any noncompliance, render it impracticable for these requirements to be made applicable to mail originating or destinating outside of the Postal Service's service area. The Postal Service does not believe that any alternative exists at this time to allow U.S. mailers to tender cigarettes and smokeless tobacco as outbound international mail or to receive them as inbound international mail under the PACT Act's exceptions. This final rule makes conforming changes to the mailability provisions in IMM chapter 136.

Consequently, the Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR Part 20 is amended to read as follows:

PART 20—[AMENDED]

1. The authority citation for 39 CFR Part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

1 International Mail Services

* * * * *

130 Mailability

* * * * *

136 Nonmailable Goods

* * * * *

[Insert new 136.4 as follows:]

136.4 Cigarettes and Smokeless Tobacco

Cigarettes (including roll-your-own tobacco) and smokeless tobacco products, as defined in DMM 601.11.1, are nonmailable when sent in outbound or inbound international mail. As noted in DMM 601.11.3, the exceptions for mailing under DMM 601.11.4 through 601.11.8 are not available for shipments of such products in international mail.

* * * * *

Neva R. Watson,
Attorney, Legislative.

[FR Doc. 2010-14829 Filed 6-21-10; 8:45 am]

BILLING CODE 7710-12-P